DEPARTMENT OF THE INTERIOR

Bureau of Land Management

[MT-070-00-1020-PA]

Montana; Scratchgravel Hills Area Recreation Management Restrictions

AGENCY: Bureau of Land Management, Interior.

ACTION: Updating Scratchgravel Hills Area Recreation Management Restrictions.

SUMMARY: Under authority of 43 CFR 8364.1 and as a result of the approval of the Scratchgravel Hills Cooperative Agreement on July 11, 1985, the following restrictions for the use of the Scratchgravel Hills, adjacent to Helena, Montana, became effective August 15, 1985:

1. The use, possession afield, or discharge of all firearms is prohibited year-round in the Scratchgravel Hills, except during such big game seasons as may be established by the Montana Department of Fish, Wildlife, and Parks.

2. The possession and use of fireworks is prohibited year-round.

To comply with requests from the Helena Interagency Fire Dispatch Center, Lewis and Clark County Sheriff Department, local fire districts and Scratchgravel Hills residents, this notice adds the following restriction:

3. The building, maintaining, attending or using a campfire, charcoal fire, cooking fire or warming fire is prohibited year-round.

Principal Meridian, Montana

These regulations apply to public lands in:

T. 11 N., R. 4 W.,

Secs. 19, 20, 21, 22, 23, 25, 26, 27, 28, 29, 33, 34, 35, and 36.

T. 10 N., R. 4 W.,

Secs. 1, 2, 3, 4, and 5.

The purpose of these restrictions is to minimize hazards to visitors and surrounding residences, and to minimize the possibility of wildfire. The public lands within the designated area will remain open to other resource and recreation uses unless otherwise restricted.

Penalties: As prescribed under the Federal Land Policy and Management, 43 USC Section 1733 (a). Violation is punishable by fines and/or imprisonment under 43 CFR 8360.0-7.

EFFECTIVE DATE: These management restrictions will go into effect upon publication in the Federal Register and will remain in effect until rescinded or modified by the authorized officer.

FOR FURTHER INFORMATION CONTACT: Steve Hartmann, Acting Field Manager, P.O. Box 3388, Butte, Montana 59702, 406-494-5059.

Dated: January 12, 2000.
Steve Hartmann.
Acting Field Manager.

[FR Doc. 00-1674 Filed 1-24-00; 8:45 am]

BILLING CODE 4310-DN-P